DEPARTMENT OF TRANSPORTATION

Federal Transit Administration

Preparation of an Environmental Impact Statement for the Union Station Master Plan and vicinity in downtown Denver, CO

AGENCY: Federal Transit Administration (FTA), U.S. Department of Transportation (DOT).

ACTION: Notice of Intent to prepare an Environmental Impact Statement.

SUMMARY: The Federal Transit Administration (FTA) is issuing this notice to advise agencies and the public that, in accordance with the National Environmental Policy Act (NEPA), FTA as lead agency, the Federal Highway Administration (FHWA) and the Federal Railroad Administration (FRA) as cooperating agencies, the Regional Transportation District (RTD), in conjunction with the City and County of Denver (CCD), the Denver Regional Council of Governments (DRCOG), and the Colorado Department of Transportation (CDOT), intend to prepare an Environmental Impact Statement (EIS) to evaluate the development alternatives and operation of a Master Plan for a mixed-use, intermodal transportation center that encompasses the Union Station property and adjacent vicinity in downtown Denver, Colorado. The project study area encompasses approximately 20-acres of land in the lower downtown area of Denver.

Additionally as part of the EIS, an assessment of the effects on historic properties within the study area, including the Denver Union Station, will be conducted in accordance with Section 106 of the National Historic Preservation Act (NHPA).

DATES: One scoping meeting will be held on the date and location shown below:

Date: June 20, 2002

Time: 5:30 pm to 8:00 pm

Location: Colorado Convention Center, Ball Room #4

Address: 700 14th Street, Denver, Co. 80202

People with special needs may contact the project Hot Line at (303) 322-3320, 24-hours prior to the date of the scoping meeting for further assistance.

An informational brochure describing the purpose of the Master Plan and EIS, the project location, proposed alternatives, and the impact area to be evaluated, will be mailed to affected federal, state, and local agencies and made available to those people attending the scoping meeting. Others may request scoping materials by accessing the project website at www.DenverUnionStation.org, by calling the Hot Line at (303) 322-3320, or by contacting Mr. Dave Shelley, Project Manager, Regional Transportation District, at the address listed below.

Written comments on the scope of the EIS, including the alternatives to be considered and the impacts to be studied, should be sent to Dave Shelley, Project Manager, Regional Transportation District by July 5, 2002.

ADDRESSES: Please forward your comments to Mr. Dave Shelley, Project Manager, Regional Transportation District, 1600 Blake Street, Denver, Colorado 80202-1399. Telephone: (303) 299-2408, or dave.shelley@rtd-denver.com

FOR FURTHER INFORMATION Contact: Mr. David Beckhouse, Community Planner, Federal Transit Administration, (303) 844-3242.

SUPPLEMENTARY INFORMATION:

Scoping Process:

Project scoping will be accomplished through a public scoping meeting and correspondence with interested people, organizations, and local, regional, state and federal agencies. Public scoping meetings will be advertised in local newspapers and through other media. The purpose of the scoping process is to determine the scope of issues to be addressed and for identifying significant issues related to the proposed action. The development of the Master Plan and EIS will include opportunities for public participation and comment throughout the study process, so that interested individuals may contribute to the decision-making process.

Description of Master Plan and Transportation Needs

A Master Plan will be developed to address what role the Union Station can play as an extremely efficient center for interconnecting various modes of transportation (cross-country, regional, and local bus and rail transit), and influencing land use by both the private and public sectors. All the activities, existing and proposed developments, and potential transportation terminals and modes, which are envisioned for the Union Station area, must co-exist efficiently and effectively. Therefore, a Master Plan must be created to identify and evaluate all the proposals and plans for the Union Station area. This evaluation will include, in terms of their impacts on each other within the context of the Union Station and its environs, the full build-out of the area, and how the alternatives will blend into the overall development of Union Station and its environs. Components of the plan include: the mixture of land uses, the magnitude of development, and the incorporation of new development into what has been built and planned for the Union Station environs. Special emphasis will be placed on transportation issues such as access, circulation, and parking. It is the intent of this project to use the Master Plan as the basis for any necessary rezoning of the study area to allow the build out of the plan.

Proposed Action

The EIS scoping process will include an evaluation of alternatives relative to the development of the Master Plan in order to derive a proposed action.

Public Involvement

A comprehensive public involvement program has been developed. The program includes a project web site (www.DenverUnionStation.org); a 24-hour Hot Line (303) 322-3320, outreach to local and county officials and community and civic groups; a public scoping process to define the issues of concern among all parties interested in the project; a public hearing upon release of the draft environmental impact statement (DEIS); and development and distribution of a project newsletters.

Alternatives

FTA and RTD propose to evaluate the no-action alternative and other reasonable alternatives identified during the public scoping and master planning processes that provide transportation benefits while reducing or avoiding adverse impacts. Interested individuals, organizations, and agencies are invited and encouraged to participate in defining the alternatives to be evaluated and related issues of concern.

Probable Effects and Potential Impacts for Analysis

The FTA and RTD will evaluate all environmental, social and economic impacts of the alternatives analyzed in the EIS. The impact areas to be addressed include land use, visual/aesthetic values, ecosystems, mineral resources, cultural and historical resources, water quality, floodplains and drainage; air quality; noise and vibration, traffic and parking, hazardous materials, utilities, energy use and conservation, public safety and security; and community and economic impacts. The EIS will evaluate potential environmental justice issues as well as secondary, cumulative, and construction-related impacts. The need for right-of-way acquisitions and relocations will also be evaluated. Alternative alignments, designs, station locations, and other measures to avoid, minimize, and mitigate adverse impacts will be developed and evaluated.

FTA Procedures

In accordance with FTA policy, all Federal laws, regulations, and executive orders affecting project development, including but not limited to the regulations of the Council on Environmental Quality and FTA implementing NEPA (40 CFR parts 1500-1508, and 23 CFR part 771), the 1990 Clean Air Act Amendments, section 404 of the Clean Water Act, Executive Order 12898 regarding environmental justice, the National Historic Preservation Act, the Endangered Species Act, and section 4(f) of the DOT Act, will be addressed to the maximum extent practicable during the NEPA process. In addition, RTD may seek § 5309 New Starts funding for the project or related projects that may terminate within the project area and will therefore be subject to the FTA New Starts regulations (49 CFR part 611). This New Starts regulation requires submission of certain specified information to FTA to support an RTD request to initiate preliminary engineering, which is normally done in conjunction with the NEPA process.

Issued on: May 29, 2002.
Lee O. Waddleton,
FTA Regional Administrator.

[FR Doc. 02-13971 Filed 6-3-02; 8:45 am]

BILLING CODE 4910-57-P